DEPARTMENT OF THE INTERIOR

National Park Service

[NPS-WASO-NAGPRA-16764; PPWOCRADN0-PCU00RP14.R50000]

Notice of Inventory Completion: U.S. Department of Agriculture, Forest Service, Medicine Bow-Routt National Forest and Thunder Basin National Grassland, Laramie, WY

AGENCY: National Park Service, Interior.

ACTION: Notice.

SUMMARY: The U.S. Department of Agriculture (USDA), Forest Service, Medicine Bow-Routt National Forest and Thunder Basin National Grassland (MBRTB) has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the USDA Forest Service MBRTB. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the USDA Forest Service MBRTB at the address in this notice by November 17, 2014.

ADDRESSES: Thomas Whitford, District Ranger, MBRTB, 2468 Jackson Street, Laramie, WY 82070-6535, telephone (307) 745-2300.

SUPPLEMENTARY INFORMATION: Notice is here given in accordance with the Native American Graves Protection and Repatriation Act (NAGPRA), 25 U.S.C. 3003, of the completion of an inventory of human remains and associated funerary objects under the control of the USDA Forest Service MBRTB, Laramie, WY. The human remains and associated funerary objects were removed from a burial site southwest of Upton, Weston County, WY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the USDA Forest Service MBRTB professional staff in consultation with representatives of the Arapaho Tribe of the Wind River Reservation, Wyoming; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Chippewa-Cree Indians of the Rocky Boy's Reservation, Montana; Comanche Nation, Oklahoma; Crow Tribe of Montana; Northern Cheyenne Tribe of the Northern Cheyenne Indian Reservation, Montana; and the Pawnee Nation of Oklahoma.

History and Description of the Remains

In 1981, human remains representing, at minimum, four individuals were removed from the Frog Creek oil field lands in Weston County, WY. This site is on Federal land, within the boundaries of the Medicine Bow-Routt National Forest and Thunder Basin National Grassland. Oil company workers discovered some human remains under rocks near their worksite approximately 64 kilometers southwest of Upton, Wyoming. The burial had previously been disturbed and the rocks originally used to cover the individuals had been moved. The Weston and Converse County Sheriff's departments were notified at the time of discovery and the human remains were sent to Dr. George Gill at the University of Wyoming for biological analysis. On October 12, 1982, Dr. Gill, George Darlington, David McKee, and David Darlington (USDA Forest Service) conducted follow-up excavations at the discovery site and collected additional human remains. The human remains were found in sand deposits on top of a butte overlooking the valley below. They appeared not to have been buried but simply covered with large flat stones.

The human remains were analyzed for Native American heritage, age, and sex by the professional staff of the University of Wyoming. The remains consist of four American Indian individuals. They are fragmented, and many bone elements were not present. The most complete individual is an adult female who was 50-65 years of age. The second set of remains is an adult male represented by only a few bone fragments. A third set of remains is of a child 6-7 years of age. An infant child is represented by a fourth set of fragmentary remains. No known individuals were identified. The two associated funerary objects are two small and partial damaged tubular non-human (canid) bone beads

Determinations Made by the USDA Forest Service Medicine Bow-Routt National Forests and Thunder Basin National Grassland

Officials of the USDA Forest Service MBRTB have determined that:

• Pursuant to 25 U.S.C. 3001(9), the human remains described in this notice are Native American based on archaeological evidence.

• Pursuant to 25 U.S.C. 3001(9), the human remains described in this notice represent the physical remains of four individuals of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Arapaho Tribe of the Wind River Reservation, Wyoming; Cheyenne and Arapaho Tribes, Oklahoma (previously listed as the Cheyenne-Arapaho Tribes of Oklahoma); Chippewa-Cree Indians of the Rocky Boy's Reservation, Montana; Crow Tribe of Montana; and the Northern Cheyenne Tribe of the Northern Cheyenne Indian Reservation, Montana.

• Pursuant to 43 CFR 10.11(c)(1), the disposition of the human remains and associated funerary objects may be to the Arapaho Tribe of the Wind River Reservation, Wyoming; Cheyenne and Arapaho Tribes, Oklahoma (previously listed as the Cheyenne-Arapaho Tribes of Oklahoma); Chippewa-Cree Indians of the Rocky Boy's Reservation, Montana; Crow Tribe of Montana; and the Northern Cheyenne Tribe of the Northern Cheyenne Indian Reservation, Montana.

Additional Requestors and Disposition

Representatives of any Indian tribe or Native Hawaiian organization not identified in this notice that wish to request transfer of control of these human remains and associated funerary objects should submit a written request with information in support of the request to Thomas Whitford, District Ranger, USDA Forest Service MBRTB, 2468 Jackson Street, Laramie, WY, telephone (307) 745-2443, by November 17, 2014. After that date, if no additional requestors have come forward, transfer of control of the human remains and associated funerary objects to the Arapaho Tribe of the Wind River Reservation, Wyoming; Cheyenne and Arapaho Tribes, Oklahoma (previously listed as the Cheyenne-Arapaho Tribes of Oklahoma); Chippewa-Cree Indians of the Rocky Boy's Reservation, Montana; Crow Tribe of Montana; and the Northern Cheyenne Tribe of the Northern Cheyenne Indian Reservation, Montana, may proceed.

The USDA Forest Service MBRTB is responsible for notifying the of the Arapaho Tribe of the Wind River Reservation, Wyoming; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Chippewa-Cree Indians of the Rocky Boy's Reservation, Montana; Comanche Nation, Oklahoma; Crow Tribe of Montana; Northern Cheyenne Tribe of the Northern Cheyenne Indian Reservation, Montana; and the Pawnee Nation of Oklahoma that this notice has been published.

Dated: September 22, 2014.
Sherry Hutt,
Manager, National NAGPRA Program.

[FR Doc. 2014-24514 Filed 10-15-14; 8:45 am]

BILLING CODE 4312-50-P